DEPARTMENT OF TRANSPORTATION

Federal Aviation Administration

14 CFR Part 71

[Docket No. FAA-2003-15363; Airspace Docket No. 03-AEA-3]

RIN 2120-AA66

Revision of Jet Route J-147

AGENCY: Federal Aviation Administration (FAA), DOT.

ACTION: Final rule.

SUMMARY: This action revises Jet Route 147 (J-147) by realigning the segment of the route that extends from the Beckley, WV, Very High Frequency Omnidirectional Range/Tactical Air Navigation (VORTAC) to the RHODE Intersection. Specifically, the FAA is realigning J-147 from the Beckley, WV, VORTAC to the Greenbrier, WV, VORTAC, then to the RHODE Intersection. The FAA is taking this action because the current radial from the Beckley VORTAC to the RHODE Intersection is unusable for navigation. This change will restore use of J-147 and enhance the management of air traffic in the affected area.

EFFECTIVE DATE: 0901 UTC, September 4, 2003.

FOR FURTHER INFORMATION CONTACT: Paul Gallant, Airspace and Rules Division, ATA-400, Office of Air Traffic Airspace Management, Federal Aviation Administration, 800 Independence Avenue, SW., Washington, DC 20591; telephone: (202) 267-8783.

SUPPLEMENTARY INFORMATION:

Background

Aircraft navigating on J-147 currently use the 076° radial of the Beckley, WV, VORTAC for the route segment between Beckley VORTAC and the RHODE Intersection. A flight inspection has revealed that the 076° radial has become unusable for navigation. The FAA issued a Notice to Airmen informing aviation users that this segment of J-147 is unusable. The FAA is realigning J-147 in order to by-pass the unusable radial and restore the route to service.

The Rule

This action amends 14 CFR part 71 by revising a segment of J-147 between the Beckley VORTAC and the RHODE Intersection. Due to limitations of the Beckley VORTAC, the radial between Beckley and RHODE Intersection is unusable for navigation. Specifically, this action realigns J-147 from Beckley, WV, VORTAC to Greenbrier, WV, VORTAC, then to RHODE Intersection. This alignment will bypass the unusable Beckley radials and permit restoration of the full length of J-147 for navigation. This action will enhance the management of air traffic in the affected area. A satisfactory flight inspection of the realigned route segment has been completed.

Section 553(b) permits the agency to forego notice and comment rulemaking when the agency finds that such notice would be impracticable, unnecessary, or contrary to the public interest. 5 U.S.C. 553(b). In this instance, the full length of J-147 is currently unusable, thus adopting this change by final rule restores J-147 to use in its entirety. This enhances safety and the management of the airspace system. Thus notice and comment in this instance is contrary to the public interest.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Jet routes are published in paragraph 2004 of FAA Order 7400.9K, dated August 30, 2002, and effective September 16, 2002, which is incorporated by reference in 14 CFR 71.1. The jet route listed in this document will be published subsequently in the order.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9K, Airspace Designations and Reporting Points, dated August 30, 2002, and effective September 16, 2002, is amended as follows:

Paragraph 2004 Jet Routes

* * * * *

J-147 [Revised]

From Beckley, WV; Greenbrier, WV; INT Greenbrier 064° and Casanova, VA, 253° radials; Casanova.

* * * * *

Issued in Washington, DC, on July 2, 2003.
Reginald C. Matthews,
Manager, Airspace and Rules Division.

[FR Doc. 03-17362 Filed 7-8-03; 8:45 am]

BILLING CODE 4910-13-P